DEPARTMENT OF HOUSING AND URBAN DEVELOPMENT

[Docket No. FR-4903-N-28]

Notice of Submission of Proposed Information Collection to OMB; Emergency Comment Request; Survey of Faith Based and Community Organizations

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: April 26, 2004.

ADDRESSES: Interested persons are invited to submit comments regarding this proposal. Comments must be received within fourteen (14) days from the date of this Notice. Comments should refer to the proposal by name/or OMB approval number) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Survey of Faith Based and Community Organizations.

Description of Information Collection: The U.S. Department of Housing and Urban Development plans to survey a sample of faith based and community organizations that have received training from HUD on how to apply for a variety of programs funded by HUD. The survey instrument would be used to obtain information on their likelihood of success in applying for various funding programs. The instruments would be administered in two waves:

The first wave immediately upon approval of this information collection; a second wave in 6 to 8 months. These two phases of data collection will help HUD determine how well its efforts to educate faith based and community organizations on its programs has translated into interest in applying, actual application, and successful funding for grantees. It will also indicate what further work the Department needs to do to assist faith based and community organizations at accessing Federal, State, and local funding.

OMB Control Number: 2528-Pending.

Agency Form Numbers: None.

Members of Affected Public: Faith Based and Community Organizations.

Estimation of the total numbers of hours needed to prepare the information collection including number of respondents, frequency of responses, and hours of response: An estimation of the total number of hours needed to prepare the information collection is 500, number of respondents is 1,000, frequency of response is 2 per annum, and the total hours per respondent is 0.25.

Authority: The Paperwork Reduction Act of 1995, 44 U.S.C. Chapter 35, as amended.

Dated: April 5, 2004.
Wayne Eddins,
Departmental PRA Compliance Officer, Office of the Chief Information Officer.

[FR Doc. 04-8137 Filed 4-9-04; 8:45 am]

BILLING CODE 4210-72-P